DEPARTMENT OF TRANSPORTATION

Federal Aviation Administration

Notice of Intent To Rule on Application To Impose and Use the Revenue From a Passenger Facility Charge (PFC) at Gainesville Regional Airport, Gainesville, FL

AGENCY: Federal Aviation Administration (FAA), DOT.

ACTION: Notice of intent to rule on application.

SUMMARY: The FAA proposes to rule and invites public comment on the application to impose and use the revenue from a PFC at Gainesville Regional Airport under the provisions of the Aviation Safety and Capacity Expansion Act of 1990 (Title IX of the Omnibus Budget Reconciliation Act of 1990) (Public Law 101-508) and Part 158 of the Federal Aviation Regulations (14 CFR Part 158).

DATES: Comments must be received on or before February 23, 2000.

ADDRESSES: Comments on this application may be mailed or delivered in triplicate to the FAA at the following address: Orlando Airports District Office, 5950 Hazeltine National Drive, Suite 400, Orlando, Florida 32822.

In addition, one copy of any comments submitted to the FAA must be mailed or delivered to Mr. Gene Clerkin, Director of Aviation of Gainesville-Alachua County Regional Airport Authority at the following address: Gainesville Regional Airport, 3880 N.E., 39th Avenue, Suite A, Gainesville, Florida 32609.

Air carriers and foreign air carriers may submit copies of written comments previously provided to Gainesville-Alachua County Regional Airport authority under section 158.23 of Part 158.

FOR FURTHER INFORMATION CONTACT: Richard Owen, Program Manager, Orlando Airports District Office, 5950 Hazeltine National Drive, Suite 400, Orlando, Florida 32822, (401) 812-6331 extension 19. The application may be reviewed in person at this same location.

SUPPLEMENTARY INFORMATION: The FAA proposes to rule and invites public comment on the application to impose and use the revenue from a PFC at Gainesville Regional airport under the provisions of the aviation Safety and Capacity Expansion Act of 1990 (Title IX of the Omnibus Budget Reconciliation Act of 1990) (Public Law 101-508) and Part 158 of the Federal Aviation Regulations (14 CFR Part 158).

On January 12, 2000, the FAA determined that the application to impose and use the revenue from a PFC submitted by Gainesville-Alachua County Regional airport Authority was substantially complete within the requirements of section 158.25 of part 158. The FAA will approve or disapprove the application, in whole or in part, no later than April 12, 2000.

The following is a brief overview of the application.

PFC Application No.: 00-01-C-00-GNV.

Level of the proposed PFC: $3.00.

Proposed charge effective date: July 1, 2000.

Proposed charge expiration date: September 1, 2008.

Total estimated PFC revenue: $3,053,325.

Brief description of proposed project(s): Terminal Hold Room Expansion; ALP Update/PFC Administration Fees; Airfield Safety Project-Runway 24 Protection Zone, Taxiway A Extension, Construct T-Hanger Taxiway, Construct Service Road, Security Upgrades and Access Road Reconstruction; Runway Vacuum Sweeper; ARFF Equipment; Security Equipment and Airfield Guidance Signs; Terminal Expansion and Renovation, Phases 1a and 1b; Passenger Lift Device, Runway and Taxiway Rehabilitation and Land Acquisition.

Class or classes of air carriers which the public agency has requested not be required to collect PFCs: None.

Any person may inspect the application in person at the FAA office listed above under FOR FURTHER INFORMATION CONTACT.

In addition, any person may, upon request, inspect the application, notice and other documents germane to the application in person at Gainesville Regional Airport.

Issued in Orlando, Florida on January 14, 2000.
W. Dean Stringer,
Manager, Orlando Airports District Office, Southern Region.

[FR Doc 00-1651 Filed 1-21-00 8:45 am]

BILLING CODE 4910-13-M